DEPARTMENT OF HOMELAND SECURITY

U.S. Customs and Border Protection

[OMB Control Number 1651-0077]

Agency Information Collection Activities; Reinstatement; Customs-Trade Partnership Against Terrorism (CTPAT) and Trade Compliance

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than December 1, 2025) to be assured of consideration.

ADDRESSES: Written comments and/or suggestions regarding the item(s) contained in this notice must include the OMB Control Number 1651-0077 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Customs-Trade Partnership against Terrorism (CTPAT) and Trade Compliance.

OMB Number: 1651-0077.

Form Number: N/A.

Current Actions: Reinstatement with change.

Type of Review: Reinstatement (with change).

Affected Public: Businesses.

Abstract: The CTPAT Program is comprised of two different program divisions, CTPAT Security and CTPAT Trade Compliance. The CTPAT Security program is designed to safeguard the world's trade industry from terrorists and smugglers by prescreening its participants. The CTPAT Security program applies to United States and nonresident Canadian importers, United States exporters, customs brokers, consolidators, ports and terminal operators, carriers of cargo in air, sea and land, third party logistics providers, Mexican long haul highway carriers, and Canadian and Mexican manufacturers. The Trade Compliance program division is only available for U.S. and nonresident Canadian importers.

The CTPAT Security program application requests the following information from an applicant for the program: an applicant's contact and business information, including the number of company employees, the number of years in business, and a list of company officers.

This collection of information is authorized by the SAFE Port Act (Pub. L. 109-347).

The CTPAT Trade Compliance program is an optional component of the CTPAT program and adds trade compliance aspects to the supply chain security aspects of the CTPAT Security program. The CTPAT Security program is a prerequisite to applying to the CTPAT Trade Compliance program. Current CTPAT importers are given the opportunity to receive additional benefits in exchange for a commitment to assume responsibility for monitoring their own compliance by applying to the CTPAT Trade Compliance program. After a company has completed the security aspects of the CTPAT Security program and is in good standing, it may opt to apply to the CTPAT Trade Compliance component. The CTPAT Trade Compliance program strengthens security by leveraging the CTPAT supply chain requirements, identifying low-risk trade entities for supply chain security, and increasing the overall efficiency of trade by segmenting risk and processing by account.

The CTPAT Trade Compliance program is open to U.S. and non-resident Canadian importers that have satisfied both the CTPAT supply chain security and trade compliance requirements.

The CTPAT Trade Compliance program application includes questions about the following:

• Primary Point of Contact including name, title, email address, and phone number

• Business information including Company Name, Company Address, Company phone number, Company website, Company type (private or public), CBP Bond information, Importer of Record Number, and number of employees

• Information about the applicant's Supply Chain Security Profile

• Trade Compliance Profile and Internal Control Operating Procedures of the applicant

• Broker information

• Training material for Supply Chain Security and Trade Compliance

• Risk Assessment documentation and results

• Period testing documentation and results

• Prior disclosure history

• Partner Government Agency affiliation information

After an importer obtains CTPAT Trade Compliance membership, the importer will be required to submit an Annual Notification Letter to CBP confirming that they are continuing to meet the requirements of the program. This letter should include: personnel changes that impact the CTPAT Trade Compliance program; organizational and procedural changes; a summary of risk assessment and self-testing results; a summary of post-entry amendments and/or disclosures made to CBP; and any importer activity changes within the last 12-month period.

Proposed Changes:

CBP is adding the following data elements for all CTPAT partners:

• Date of Birth (DOB) (optional)

• Registro Federal de Contribuventes (RFC) (Optional)

Additionally, CBP is establishing a pilot program pursuant to the Customs Trade Partnership Against Terrorism Pilot Program Act of 2023 passed into law on October 1, 2024. (Pub. L. 118-98 118th Congress). This pilot will allow 10 non-asset based and 10 asset based Third Party Logistics Providers (3PLS) to participate in the CTPAT program. This pilot will help CBP to assess whether allowing non-asset-based 3PLs and asset-based 3PLs to participate in CTPAT would enhance port security, combat terrorism, prevent supply chain security breaches, or otherwise meet the goals of CTPAT. To participate in the pilot, applicants will email CTPAT with their intent to participate as an asset based or non-asset based 3PL in the pilot program. Applicants from each group will be selected on a first-come first-serve basis. Approved applicants will then submit an application to include a Company profile and a Security profile and, if selected, will be assigned a supply chain security specialist who determines whether the applicant meets all of the eligibility requirements of either the asset based 3PL or non-asset based 3PL. If the application is approved, the applicant becomes certified and subject to the same requirements and benefits as other C-TPAT members.

Type of Information Collection: CTPAT Application.

Estimated Number of Respondents: 770.

Estimated Number of Annual Responses per Respondent: 1.

Estimated Number of Total Annual Responses: 770.

Estimated Time per Response: 20 hours.

Estimated Total Annual Burden Hours: 15,400.

Type of Information Collection: Trade Compliance Application.

Estimated Number of Respondents: 50.

Estimated Number of Annual Responses per Respondent: 1.

Estimated Number of Total Annual Responses: 50.

Estimated Time per Response: 2 hours.

Estimated Total Annual Burden Hours: 100.

Type of Information Collection: CTPAT Trade Compliance Notification Letter.

Estimated Number of Respondents: 50.

Estimated Number of Annual Responses per Respondent: 1.

Estimated Number of Total Annual Responses: 50.

Estimated Time per Response: 2 hours.

Estimated Total Annual Burden Hours: 100.

Seth D. Renkema,
Branch Chief, Economic Impact Analysis Branch, U.S. Customs and Border Protection.

[FR Doc. 2025-19231 Filed 10-1-25; 8:45 am]

BILLING CODE 9111-14-P